DEPARTMENT OF COMMERCE

National Oceanic and Atmospheric Administration

Proposed Information Collection; Comment Request; Socioeconomic Evaluation of Lake Michigan in Support of Sanctuary Nomination

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 10, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Sarah Gonyo, 240-533-0382 or sarah.gonyo@noaa.gov.

SUPPLEMENTARY INFORMATION:

I. Abstract

Pursuant to the National Marine Sanctuaries Act and the Coastal Zone Management Act, this request is for a new data collection to benefit the National Oceanic and Atmospheric Administration (NOAA), Office of National Maine Sanctuaries (ONMS), and policy-makers on the state and local level in Wisconsin.

In 2015, NOAA announced its intent to designate a new national marine sanctuary off the western coast of Wisconsin in Lake Michigan, extending from Mequon to Two Rivers. The proposed sanctuary would focus on conserving maritime heritage resources, fostering partnerships with education and research partners, and increasing opportunities for tourism and economic development. The National Ocean Service (NOS) proposes to collect data on how residents use the region for recreation, sociocultural values residents place on the region, and economic values of the region for relevant recreational tourism. Respondents will be sampled from households in nine coastal cities and counties.

This research will support the sanctuary's long-term management plan, provide the foundation for monitoring changes over time, as well as provide baseline information to help inform local coastal zone management and planning to enhance access to Lake Michigan.

II. Method of Collection

The data collection will take place over a five to nine month period and will be comprised of a questionnaire to be completed by the respondent. The data will be collected via an internet survey instrument.

III. Data

OMB Control Number: 0648-xxxx.

Form Number(s): None.

Type of Review: Regular submission (request for a new information collection).

Affected Public: Individuals or households.

Estimated Number of Respondents: 4,200.

Estimated Time per Response: 30 minutes.

Estimated Total Annual Burden Hours: 2,100.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sarah Brabson,
NOAA PRA Clearance Officer.

[FR Doc. 2017-09520 Filed 5-10-17; 8:45 am]

BILLING CODE 3510-JE-P